DEPARTMENT OF HEALTH AND HUMAN SERVICES

Establishment of the 2015 Dietary Guidelines Advisory Committee

AGENCY: Office of the Assistant Secretary for Health, Office of the Secretary, Department of Health and Human Services.

ACTION: Notice.

Authority: Establishment of the 2015 Dietary Guidelines Advisory Committee is authorized under 42 U.S.C. 217a, Section 222 of the Public Health Service Act, as amended. The Committee will be governed by provisions of the Federal Advisory Committee Act, Public Law 92-463, as amended (5 U.S.C. App.), which sets forth standards for the formation and use of advisory committees.

SUMMARY: The U.S. Department of Health and Human Services announces establishment of the 2015 Dietary Guidelines Advisory Committee (hereafter referred to as the Committee or 2015 DGAC). The 2015 DGAC is an expert advisory committee that has been established to assist the Department of Health and Human Services (HHS) and the U.S. Department of Agriculture (USDA) perform a single, time-limited task.

FOR FURTHER INFORMATION CONTACT: Designated Federal Officer, 2015 DGAC, Richard D. Olson and/or Alternate Designated Federal Officer, 2015 DGAC: Kellie (O'Connell) Casavale, Ph.D., RD; Office of Disease Prevention and Health Promotion, OASH/DHHS; 1101 Wootton Parkway, Suite LL100 Tower Building; Rockville, MD 20852; Telephone (240) 453-8280; Fax: (240) 453-8281. Lead USDA Co-Executive Secretary, Colette I. Rihane, M.S., R.D., Director, Nutrition Guidance and Analysis Division, Center for Nutrition Policy and Promotion; U.S. Department of Agriculture; 3101 Park Center Drive, Room 1034; Alexandria, VA 22302; Telephone: (703) 305-7600; Fax: (703) 305-3300. USDA Co-Executive Secretary, Shanthy A. Bowman, Ph.D.; Nutritionist, Food Surveys Research Group, Beltsville Human Nutrition Research Center, Agricultural Research Service, USDA; 10300 Baltimore Avenue, BARC-West Bldg 005, Room 125; Beltsville, MD 20705-2350; Telephone: 301-504-0619. Additional information about the 2015 DGAC is available on the Internet at www.dietaryguidelines.gov.

SUPPLEMENTARY INFORMATION: Under Section 301 of the National Nutrition Monitoring and Related Research Act of 1990 (7 U.S.C. 534), the Secretaries of HHS and USDA are required to publish jointly, at least every five years, a report entitled Dietary Guidelines for Americans. Under the referenced legislation, it is stipulated that HHS and USDA are required to work jointly ane collaboratively to publish a report that (1) contains nutritional and dietary information and guidelines for the general public; (2) is based on the preponderance of scientific and medical knowledge current at the at the time of publication; and (3) will be promoted by each Federal agency in carrying out any Federal food, nutrition, or health program.

Dietary Guidelines for Americans was issued voluntarily by HHS and USDA in 1980, 1985, and 1990. Since enactment of the authorizing legislation, the Dietary Guidelines for Americans have been published with revisions in 1995, 2000, 2005, and 2010. The Secretaries of HHS and USDA have established and utilized a Dietary Guidelines Advisory Committee to provide advice and make recommendations regarding the Guidelines since the 1985 edition.

After appropriate consultation between HHS and the General Services Administration (GSA), it was determined that formation of the 2015 DGAC is in the public interest in connection with the performance of duties imposed on the Department by law, and that such duties can best be performed through the advice and counsel of a federal advisory committee. The Secretary of Health and Human Services approved for the 2015 DGAC to be established as a discretionary Federal advisory committee; the Committee charter was approved by the Secretary on January 9, 2013. To comply with the provisions of FACA, the charter will be filed with the appropriate Congressional committees and the Library of Congress fifteen calendar days after notice of this action being taken has been published in the Federal Register.

Objectives and Scope of Activities. The 2015 DGAC will provide independent, science-based advice and recommendations for development of the Dietary Guidelines for Americans, 2015, which forms the basis of Federal nutrition programs, nutrition standards, and nutrition education for the general public. A variety of services and tools will be made available to the Committee to support development of recommendations that promote health and reduce chronic disease risk for Americans. The USDA Nutrition Evidence Library will assist the Committee in conducting and creating a transparent database of systematic reviews reflecting the most current research available on a wide range of food and nutrition-related topics to inform its recommendations.

The 2015 DGAC is established to accomplish a single, time-limited task. The Committee will be terminated after delivery of its final report to the Secretaries of HHS and USDA or two years from the date that the Committee charter is filed, whichever comes first.

Membership and Designation. The Committee will consist of not more than 17 members, with the minimum number being 13; one or more members will be selected to serve as the Chair, Vice Chair, and/or Co-Chairs. Individuals will be selected to serve as members of the Committee who are familiar with current scientific knowledge in the field of human nutrition and chronic disease. Expertise will be sought in specific specialty areas that may include but are not limited to cardiovascular disease; type 2 diabetes; overweight and obesity; osteoporosis; cancer; pediatrics; gerontology; maternal/gestational nutrition; epidemiology; general medicine; energy balance, which includes physical activity; nutrient bioavailability; nutrition biochemistry and physiology; food processing science, safety and technology; public health; nutrition education and behavior change; and/or nutrition-related systematic review methodology.

Members will be invited to serve for the duration of the Committee. Individuals who are appointed to serve as members of the Committee will be jointly agreed upon by the Secretaries of HHS and USDA. All appointed members of the 2015 DGAC will be classified as special government employees (SGEs).

Administrative Management and Support. The HHS Assistant Secretary for Health and USDA Under Secretaries of the Food, Nutrition, and Consumer Services (FNCS) and Research, Education and Economics (REE) will provide guidance and oversight for the Committee's function and activities.

Management and support services for the 2015 DGAC primarily will be provided by Office of Disease Prevention and Health Promotion (ODPHP) within the Department of Health and Human Services. The ODPHP is a program office within Office of the Assistant Secretary for Health (OASH), which is a staff division in HHS Office of the Secretary. Responsibility for administrative services will be shared with staffs of the USDA FNCS and REE. USDA administrative leadership and Nutrition Evidence Library support will come from the Center for Nutrition Policy and Promotion within FNCS. REE agencies will provide administrative and data analysis support.

A copy of the charter for the 2015 DGAC can be obtained from the designated contacts. A copy of the charter also will be made available on the FACA database after the document is filed with the appropriate Congressional committees and the Library of Congress. The FACA database is a shared management system that is maintained by the GSA Committee Management Secretariat. The Web site for the FACA database is http://fido.gov/facadatabase/.

Dated: January 30, 2013.
Howard K. Koh,
Assistant Secretary for Health.

[FR Doc. 2013-02502 Filed 2-4-13; 8:45 am]

BILLING CODE 4150-32-P